DEPARTMENT OF LABOR

Office of the Secretary

29 CFR Part 38

RIN 1291-AA36

Implementation of the Nondiscrimination and Equal Opportunity Provisions of the Workforce Innovation and Opportunity Act

Correction

In rule document 2016-27737 beginning on page 87130 in the issue of Friday, December 2, 2016, make the following correction:

1. On page 87130, in the first column, after the DATES heading, the second line, “December 2, 2016.” should read “January 3, 2017.”

[FR Doc. C1-2016-27737 Filed 12-6-16; 8:45 am]

BILLING CODE 1301-00-D